FEDERAL COMMUNICATIONS COMMISSION

47 CFR Part 64

[CG Docket No. 03-123; DA 06-1627]

Telecommunications Relay Services and Speech-to-Speech Services for Individuals With Hearing and Speech Disabilities

AGENCY: Federal Communications Commission.

ACTION: Clarification.

SUMMARY: In this document, the Commission clarifies waivers of certain telecommunications relay services (TRS) mandatory minimum standards for captioned telephone relay service, a form of TRS, which were set forth in a clarification and waiver document. The clarification and waiver document waived the following mandatory minimum standards for the provision of captioned telephone service: communications assistants (CAs) must be competent in interpreting typewritten American Sign Language (ASL); TRS providers must give CAs oral-to-type tests; and CAs may not refuse sequential calls. The Commission clarifies that these requirement do not apply to captioned telephone services that use voice recognition technologies (instead of typing) to convey messages, and that do not have the CA play a role in setting up the calls.

DATES: Effective August 14, 2006.

FOR FURTHER INFORMATION CONTACT: Thomas Chandler, Consumer & Governmental Affairs Bureau, Disability Rights Office at (202) 418-1475 (voice), (202) 418-0597 (TTY), or e-mail at Thomas.Chandler@fcc.gov.

SUPPLEMENTARY INFORMATION: This document does not contain new or modified information collection requirements subject to the PRA of 1995, Public Law 104-13. In addition, it does not contain any new or modified “information collection burden for small business concerns with fewer than 25 employees,” pursuant to the Small Business Paperwork Relief Act of 2002, Public Law 107-198, see 44 U.S.C. 3506 (c)(4). This is a summary of the Commission's document DA 06-1627, Telecommunications Relay Services and Speech-to-Speech Services for Individuals with Hearing and Speech Disabilities, Order, CG Docket No. 03-123, adopted August 14, 2006, released August 14, 2006 clarifying waivers of certain TRS mandatory minimum standards for caption telephone relay service waived in the clarification and waiver document published at 68 FR 55898, September 29, 2003. The full text of document DA 06-1627 and copies of any subsequently filed documents in this matter will be available for public inspection and copying during regular business hours at the FCC Reference Information Center, Portals II, 445 12th Street, SW., Room CY-A257, Washington, DC 20554. Document DA 06-1627 and copies of subsequently filed documents in this matter may also be purchased from the Commission's duplicating contractor at Portals II, 445 12th Street, SW., Room CY--B402, Washington, DC 20554. Customers may contact the Commission's duplicating contractor at its Web site www.bcpiweb.com or by calling 1-800-378-3160. To request materials in accessible formats for people with disabilities (Braille, large print, electronic files, audio format), send an e-mail to fcc504@fcc.gov or call the Consumer & Governmental Affairs Bureau at (202) 418-0530 (voice), (202) 418-0432 (TTY). Document DA 06-1627 can also be downloaded in Word or Portable Document Format (PDF) at: http://www.fcc.gov/cgb/dro.

Synopsis

Background

On September 29, 2003, the Commission published a clarification and waiver document that recognized captioned telephone service as a form of TRS compensable from the Interstate TRS Fund. As a general matter, captioned telephone service uses a special telephone that has a text display. It permits the user—typically someone who has the ability to speak and some residual hearing—to speak directly to the other party to the call, and in return to both listen to what is said over the telephone and simultaneously read captions of what the other person is saying. A CA using specially developed voice recognition technology generates the captions. As a result, there is no typing by the captioned telephone user at any time during the call, and the CA types only in rare instances when, e.g., words or proper names are used that the computer does not recognize. Further, as presently offered, to use this service the consumer directly dials the number he or she wishes to call, not the number of a relay provider, and is automatically connected to the captioned telephone CA at the TRS facility. The Commission concluded that some TRS mandatory minimum standards did not apply to the provision of this service and waived other requirements for limited periods of time.

On June 28, 2006, captioned telephone providers filed their annual report addressing the three outstanding waivers applicable to this service—CA competence in interpreting typewritten ASL, use of oral-to-type tests, and handling sequential calls (as applied to outbound calls). Ultratec, Inc., Sprint-Nextel, Hamilton Relay, Inc., Third Annual Report on Captioned Telephone Service and Petition to Make Captioned Telephone Waivers Permanent, CG Docket No. 03-123 (June 28, 2006) (Captioned Telephone Waiver Petition). The rule requiring CAs to be competent in interpreting typewritten ASL is intended to ensure that CAs can accurately understand and interpret the message the TRS user has typed when the user uses the syntax, grammar, and language unique to ASL. The oral-to-type test is intended to ensure that a CA can meet the 60 words per minute typing speed required by the rules. The rule requiring the handling of sequential calls is intended to ensure that a CA does not disconnect the TRS user after a call if the user desires to make additional calls. See 47 CFR 64.604(a)(1) and (3) of the Commission's rules. The report noted that these waivers expire August 1, 2006, and included a request that the Commission either make these waivers permanent for captioned telephone service provided with the aid of voice recognition technology, or clarify that the “standards for which these waivers have been granted do not apply to captioned telephone relay services that use voice recognition technologies to convey messages.” Captioned Telephone Waiver Petition at 2.

Discussion

The Commission clarifies that these three requirements do not apply to captioned telephone services where the user does not type the outbound message, the CA generates text for the user principally using voice recognition technologies (instead of typing), and the communications assistant does not play a role in setting up a call. First, the Commission recognizes that if a captioned telephone user does not type in making a call, there is never the opportunity for the CA to have to interpret typewritten ASL. Similarly, the Commission recognizes that oral-to-type tests are not relevant to captioned telephone service involving voice recognition technologies, and therefore that oral-to-text tests may appropriately be used as a substitute to assess the proficiency of captioned telephone CAs. Finally, the Commission recognizes that if the captioned telephone user initiates a call by directly dialing the called party, so that the CA does not play a role in setting up the call, the sequential call rule has no application. To the extent these mandatory minimum standards do not apply to the provision of captioned telephone service, as clarified herein, providers need not file annual reports addressing these requirements.

Congressional Review Act

The Commission will not send a copy of the Order pursuant to the Congressional Review Act, see 5 U.S.C. 801(a)(1)(A), because the adopted rules are rules of particular applicability.

Ordering Clauses

Accordingly, It is ordered that, pursuant to the authority contained in section 225 of the Communications Act of 1934, as amended, 47 U.S.C. 225, and § § 0.141 and 0.361 of the Commission's rules, 47 CFR 0.141 and 0.361, the Order is hereby adopted.

Federal Communications Commission.
Monica S. Desai,
Chief, Consumer and Governmental Affairs Bureau.

[FR Doc. E6-13987 Filed 8-22-06; 8:45 am]

BILLING CODE 6712-01-P